NATIONAL AERONAUTICS AND SPACE ADMINISTRATION

[Notice: (17-031)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995.

DATES: All comments should be submitted within 60 calendar days from the date of this publication.

ADDRESSES: Interested persons are invited to submit written comments on the proposed information collection to NASA Paperwork Reduction Act Clearance Officer, Code JF000, National Aeronautics and Space Administration, Washington, DC 20546-0001 or Frances.C.Teel@nasa.gov.

FOR FURTHER INFORMATION CONTACT: Requests for additional information or copies of the information collection instrument(s) and instructions should be directed to Ms. Frances Teel, NASA Clearance Officer, NASA Headquarters, 300 E Street SW., JF000, Washington, DC 20546, or Frances.C.Teel@nasa.gov.

SUPPLEMENTARY INFORMATION:

I. Abstract

NASA's Ames Research Center, Human Systems Integration Division manages the NASA Aviation Safety Reporting System (ASRS) under an Interagency Agreement with the Federal Aviation Administration (FAA).

The Aviation Safety Reporting System (ASRS) is an open, voluntary reporting system for any person in National Airspace System to report safety incidents, events, or situations. Respondents include but are not limited to commercial and general aviation pilots, air traffic controllers, flight attendants, maintenance technicians, dispatchers, and other members of the public. The ASRS database is a public repository which serves the FAA, NASA, and other organizations world-wide which are engaged in research and the promotion of safe flight. ASRS data are used to (1) Identify deficiencies and discrepancies in the National Aviation System (NAS) so that these can be remedied by appropriate authorities, (2) Support policy formulation and planning for, and improvements to, the NAS, and, (3) Strengthen the foundation of aviation human factors safety research. Respondents are not reimbursed for associated cost to provide the information. Comments submitted in response to this notice will be summarized and included in the request for OMB approval of this information collection. They will also become a matter of public record.

II. Method of Collection

NASA collects this information electronically and that is the preferred manner, however information may also be collected via mail or fax.

III. Data

Title: NASA Aviation Safety Reporting System.

OMB Number: 2700-XXXX.

Type of Review: Existing Information Collection in use without OMB Approval.

Affected Public: Individuals.

Estimated Number of Respondents: 92,228.

Estimated Time per Response: 30 minutes.

Estimated Total Annual Burden Hours: 46,114 hours.

Estimated Total Annual Cost: $3.0M.

IV. Request for Comments

Comments are invited on: (1) Whether the proposed collection of information is necessary for the proper performance of the functions of NASA, including whether the information collection has practical utility; (2) the accuracy of NSA's estimate of the burden (including hours and cost) of the proposed collection of information; (3) ways to minimize the burden of the collection of information on respondents. Comments submitted in response to this notice will be summarized and included in the request for OMB approval of this information collection. They will also become a matter of public record.

Frances Teel,
NASA PRA Clearance Officer.

[FR Doc. 2017-11423 Filed 6-1-17; 8:45 am]

BILLING CODE 7510-13-P